DEPARTMENT OF TRANSPORTATION

Federal Aviation Administration

Women in Aviation Advisory Board; Notice of Public Meeting

AGENCY: Federal Aviation Administration (FAA), Department of Transportation.

ACTION: Notice of public meeting.

SUMMARY: This notice announces a meeting of the Women in Aviation Advisory Board (WIAAB).

DATES: The meeting will be held on January 14, 2020, from 9 a.m.—3:30 p.m. EDT.

Requests to attend the meeting must be received by Thursday, December 31, 2020.

Requests for accommodations to a disability must be received by Thursday, December 31, 2020.

If you wish to speak during the meeting, you must submit a written copy of your remarks to FAA by Thursday, December 31, 2020.

Requests to submit written materials to be reviewed during the meeting must be received no later than Thursday, December 31, 2020.

ADDRESSES: Due to circumstances outside of the Federal Aviation Administration's control, the meeting will be offered as a webinar. You can visit the WIAAB internet website at:

https://www.faa.gov/about/office_org/headquarters_offices/ahr/advisory_committees/women_aviation/.

FOR FURTHER INFORMATION CONTACT: Ms. Angela Anderson, Designated Federal Officer, Federal Aviation Administration, at S612WomenAdvisoryBoard@faa.gov. Any committee related request should be sent to the person listed in this section or by phone at 202 267-9629.

SUPPLEMENTARY INFORMATION:

I. Background

WIAAB was created under the Federal Advisory Committee Act (FACA), in accordance with Section 612 of the FAA Reauthorization Act of 2018 (Pub. L. 115-254), to encourage women and girls to enter the field of aviation with the objective of promoting organizations and programs that provide education, training, mentorship, outreach, and recruitment of women in the aviation industry.

II. Agenda

At the meeting, the agenda will include the following topics:

• Official Statement of the Designated Federal Officer

• Welcome/Opening Remarks

• Update from Subcommittee Chairs

• Review of Action Items

• Closing Remarks

A detailed agenda will be posted on the WIAAB internet website address listed in the ADDRESSES section at least 15 days in advance of the meeting. Copies of the meeting minutes will also be available on the WIAAB internet website.

III. Public Participation

The meeting will be open to the public and members of the public who wish to attend must RSVP to the person listed in the FOR FURTHER INFORMATION CONTACT section with your name and affiliation. Anyone who has registered to attend will be notified in a timely manner prior to the meeting.

The U.S. Department of Transportation is committed to providing equal access to this meeting for all participants. If you need alternative formats or services because of a disability, such as sign language, interpretation, or other ancillary aids, please contact the person listed in the FOR FURTHER INFORMATION CONTACT section by Thursday, December 31, 2020.

There will be a total of 15 minutes allotted for oral comments from members of the public joining the meeting. To accommodate as many speakers as possible, the time for each commenter may be limited. Individuals wishing to reserve speaking time during the meeting must submit a request at the time of registration, as well as the name, address, and organizational affiliation of the proposed speaker. If the number of registrants requesting to make statements is greater than can be reasonably accommodated during the meeting, the Federal Aviation Administration may conduct a lottery to determine the speakers. Speakers are requested to submit a written copy of their prepared remarks for inclusion in the meeting records and for circulation to WIAAB members. All prepared remarks submitted on time will be accepted and considered as part of the record. Any member of the public may present a written statement to the committee at any time. The public may present written statements to WIAAB by emailing the Designated Federal Officer's address listed in the FOR FURTHER INFORMATION CONTACT section.

Issued in Washington, DC, on December 8, 2020.
Angela O. Anderson,
Senior Advisor, Office of the Assistant Administrator for Human Resource Management, Federal Aviation Administration.

[FR Doc. 2020-27383 Filed 12-11-20; 8:45 am]

BILLING CODE 4910-13-P